DEPARTMENT OF JUSTICE

Parole Commission

Sunshine Act Meeting

Record of Vote of Meeting Closure

(Public Law 94-409) (5 U.S.C. Sec. 552b)

I, Cranston Mitchell, of the United States Parole Commission, was present at a meeting of said Commission, which started at approximately 12:00 p.m., on Wednesday, July 23, 2014 at the U.S. Parole Commission, 90 K Street NE., Third Floor, Washington, DC 20530. The purpose of the meeting was to discuss one original jurisdiction case pursuant to 28 CFR Section 2.27. Four Commissioners were present, constituting a quorum when the vote to close the meeting was submitted.

Public announcement further describing the subject matter of the meeting and certifications of the Acting General Counsel that this meeting may be closed by votes of the Commissioners present were submitted to the Commissioners prior to the conduct of any other business. Upon motion duly made, seconded, and carried, the following Commissioners voted that the meeting be closed: Cranston, Mitchell, Patricia K. Cushwa, J. Patricia Wilson Smoot and Charles T. Massarone.

IN WITNESS WHEREOF, I make this official record of the vote taken to close this meeting and authorize this record to be made available to the public.

Dated: July 23, 2014.
Cranston Mitchell,
Vice Chairman, U.S. Parole Commission.

[FR Doc. 2014-17909 Filed 7-25-14; 11:15 am]

BILLING CODE 4410-31-P